DEPARTMENT OF HEALTH AND HUMAN SERVICES

Performance Review Board Members

Title 5, U.S.C. Section 4314(c)(4) of the Civil Service Reform Act of 1978, Public Law 95-454, requires notice of appointment of individuals to serve as a member of the Performance Review Board shall be published in the Federal Register.

The following individuals are hereby appointed to serve on Performance Review Boards within the Department of Health and Human Services. These individuals supplement membership on existing Performance Review Boards.

Office of the Secretary

Moulds, Donald, Principal Deputy Assistant Secretary.

Monahan, John, Director, Office of Global Health Affairs.

Centers for Disease Control and Prevention

Branche, Christine, Associate Director for NIOSH.

Health Resources and Services Administration (HRSA)

Morford, Thomas G., Associate Administrator, Office of Operations.

Indian Health Service (IHS)

Karol M.D., Susan, Chief Medical Officer.

Dated: October 16, 2009.
Antonia T. Harris,
Deputy Assistant Secretary for Human Resources, Department of Health and Human Services.

[FR Doc. E9-25452 Filed 10-20-09; 8:45 am]

BILLING CODE P